DEPARTMENT OF ENERGY

Federal Energy Regulatory Commission

Combined Notice of Filings #1

Take notice that the Commission received the following electric corporate filings:

Docket Numbers: EC12-94-000.

Applicants: Fortis Inc., Central Hudson Gas & Electric Corporation, CH Energy Group, Inc., FortisUS Inc., Cascade Acquisition Sub Inc.

Description: Fortis-Central Hudson Section 203 Application for Merger and Disposition of Jurisdictional Facilities and Request for Waivers of Filing Requirements.

Filed Date: 4/23/12.

Accession Number: 20120423-5228.

Comments Due: 5 p.m. ET 6/22/12.

Take notice that the Commission received the following electric rate filings:

Docket Numbers: ER12-165-003.

Applicants: Midwest Independent Transmission System Operator, Inc.

Description: G746 Compliance—Errata to be effective 12/21/2011.

Filed Date: 4/24/12.

Accession Number: 20120424-5032.

Comments Due: 5 p.m. ET 5/15/12.

Docket Numbers: ER12-1459-001.

Applicants: Midwest Independent Transmission System Operator, Inc.

Description: Attachment L—Credit Policy to be effective 6/6/2012.

Filed Date: 4/23/12.

Accession Number: 20120423-5202.

Comments Due: 5 p.m. ET 5/14/12.

Docket Numbers: ER12-1592-000.

Applicants: Midwest Independent Transmission System Operator, Inc.

Description: OTP-MPC T-T to be effective 4/24/2012.

Filed Date: 4/23/12.

Accession Number: 20120423-5032.

Comments Due: 5 p.m. ET 5/14/12.

Docket Numbers: ER12-1593-000.

Applicants: DATC Midwest Holdings, LLC.

Description: Application for Acceptance of Transmission Rate Formula to be effective 6/19/2012.

Filed Date: 4/20/12.

Accession Number: 20120420-5236.

Comments Due: 5 p.m. ET 5/11/12.

Docket Numbers: ER12-1594-000.

Applicants: PacifiCorp.

Description: UAMPS Horse Butte Communications Installation Agreement to be effective 6/23/2012.

Filed Date: 4/23/12.

Accession Number: 20120423-5104.

Comments Due: 5 p.m. ET 5/14/12.

Docket Numbers: ER12-1595-000.

Applicants: PJM Interconnection, LLC.

Description: 1st Quarter 2012 Updates to PJM Operating Agreement and RAA Membership List to be effective 3/31/2012.

Filed Date: 4/23/12.

Accession Number: 20120423-5173.

Comments Due: 5 p.m. ET 5/14/12.

Docket Numbers: ER12-1596-000.

Applicants: El Paso Electric Company.

Description: Rate Schedule No. 111 EPE Engineering & Procurement Agreement to be effective 4/24/2012.

Filed Date: 4/23/12.

Accession Number: 20120423-5205.

Comments Due: 5 p.m. ET 5/14/12.

Docket Numbers: ER12-1597-000.

Applicants: Ameren Illinois Company.

Description: Medina Valley IA Notice of Succession to be effective 2/3/2012.

Filed Date: 4/23/12.

Accession Number: 20120423-5213.

Comments Due: 5 p.m. ET 5/14/12.

Docket Numbers: ER12-1598-000.

Applicants: Unitil Power Corp.

Description: Unitil Power Corp submits Statement of all billing transactions under the Amended Unitil System Agreement for the period January 1, 2011 to December 31, 2011 etc.

Filed Date: 4/23/12.

Accession Number: 20120423-0202.

Comments Due: 5 p.m. ET 5/14/12.

Docket Numbers: ER12-1599-000.

Applicants: Pacific Gas and Electric Company.

Description: Request for One-time Tariff Waiver of Pacific Gas and Electric Company.

Filed Date: 4/23/12.

Accession Number: 20120423-5229.

Comments Due: 5 p.m. ET 5/14/12.

Docket Numbers: ER12-1600-000.

Applicants: Southwest Power Pool, Inc.

Description: 2413 Exelon Generation Company Market Participant Agreement to be effective 4/1/2012.

Filed Date: 4/24/12.

Accession Number: 20120424-5064.

Comments Due: 5 p.m. ET 5/15/12.

Docket Numbers: ER12-1601-000.

Applicants: PacifiCorp.

Description: WAPA Short Term Firm Point to Point Transmission Service Agreements to be effective 4/19/2012.

Filed Date: 4/24/12.

Accession Number: 20120424-5065.

Comments Due: 5 p.m. ET 5/15/12.

Docket Numbers: ER12-1602-000.

Applicants: Southwest Power Pool, Inc.

Description: Southwest Power Pool, Inc.'s Notice of Cancellation.

Filed Date: 4/24/12.

Accession Number: 20120424-5074.

Comments Due: 5 p.m. ET 5/15/12.

Docket Numbers: ER12-1603-000.

Applicants: PGPV, LLC.

Description: mbr tariff to be effective 4/25/2012.

Filed Date: 4/24/12.

Accession Number: 20120424-5104.

Comments Due: 5 p.m. ET 5/15/12.

Take notice that the Commission received the following electric securities filings:

Docket Numbers: ES12-13-000.

Applicants: AEP Texas North Company.

Description: Supplemental Application of AEP Texas North Company.

Filed Date: 4/17/12.

Accession Number: 20120417-5214.

Comments Due: 5 p.m. ET 5/4/12.

Docket Numbers: ES12-24-000.

Applicants: AEP Appalachian Transmission Company, Inc, AEP Indiana Michigan Transmission Company, Inc., AEP Kentucky Transmission Company, Inc, AEP Oklahoma Transmission Company, Inc., AEP Southwestern Transmission Company, Inc., AEP West Virginia Transmission Company, Inc.

Description: Supplemental Application of AEP Appalachian Transmission Company, Inc. et al.

Filed Date: 4/19/12.

Accession Number: 20120419-5157.

Comments Due: 5 p.m. ET 5/2/12.

Take notice that the Commission received the following foreign utility company status filings:

Docket Numbers: FC12-6-000.

Applicants: Moore Solar, Inc.

Description: Notification of Self-Certification of Foreign Utility Company Status of Moore Solar, Inc.

Filed Date: 4/23/12.

Accession Number: 20120423-5206.

Comments Due: 5 p.m. ET 5/14/12.

Docket Numbers: FC12-7-000.

Applicants: Sombra Solar, Inc.

Description: Notification of Self-Certification of Foreign Utility Company Status of Sombra Solar, Inc.

Filed Date: 4/23/12.

Accession Number: 20120423-5208.

Comments Due: 5 p.m. ET 5/14/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 24, 2012.
Nathaniel J. Davis, Sr.,
Deputy Secretary.

[FR Doc. 2012-10464 Filed 4-30-12; 8:45 am]

BILLING CODE 6717-01-P